DEPARTMENT OF HOUSING AND URBAN DEVELOPMENT

24 CFR Part 1003

[Docket No. FR-4612-F-03]

RIN 2577-AC22

Revision to the Application Process for Community Development Block Grants for Indian Tribes and Alaska Native Villages; Delay of Effective Date

AGENCY: Office of the Secretary, HUD.

ACTION: Final rule; delay of effective date.

SUMMARY: This document advises the public that the final rule published on January 17, 2001, which amends HUD's regulations for Community Development Block Grants for Indian Tribes and Alaska Native Villages (the “ICDBG program”), will take effect on April 16, 2001. The amendments made by the final rule will permit the incorporation of the ICDBG grant application and selection procedures into HUD's SuperNOFA process. As provided in the “Supplementary Information” section of this final rule, this delay in the effective date is made in response to a White House memorandum of January 20, 2001. Given the imminence of the effective date of this rule, seeking prior public comment in accordance with HUD's regulations on rulemaking would have been impractical, as well as contrary to the public interest in the orderly promulgation and implementation of regulations.

DATES: The effective date of the final rule amending 24 CFR part 1003 published at 66 FR 4578 (January 17, 2001) is delayed from February 16, 2001 until April 16, 2001.

FOR FURTHER INFORMATION CONTACT: Jacqueline Kruszek, Office of Grants Management, Office of Native American Programs, Department of Housing and Urban Development, Suite 3390, 1999 Broadway, Denver, CO 80202; telephone 1-800-561-5913 (this is a toll-free number). Hearing or speech-impaired persons may access this telephone number via TTY by calling the Federal Information Relay Service at 1-800-877-8339. Ms. Kruszek may also be contacted via e-mail at: Jacqueline_A._Kruszek@hud.gov.

SUPPLEMENTARY INFORMATION: On January 17, 2001 (66 FR 4578), HUD published a final rule to amend its regulations for Community Development Block Grants for Indian Tribes and Alaska Native Villages (the “ICDBG program”). The final rule follows publication of a November 6, 2000 proposed rule, and takes into consideration the public comments received on the proposed rule. The principal reason for the changes is to allow the integration of the ICDBG program application process into HUD's Super Notice of Funding Availability (SuperNOFA) approach. The SuperNOFA process, in which the great majority of HUD's competitive funds are announced in one document, is designed to simplify the application process, bring consistency and uniformity to the application and selection process, and accelerate the availability of funding.

The January 17, 2001 final rule provides for the rule to take effect on February 16, 2001. On January 20, 2001, the White House issued a memorandum to the heads and acting heads of all Executive Departments and Agencies regarding regulatory review. The January 20, 2001 memorandum instructs the agencies to temporarily postpone the effective dates of their regulations that have been published in the Federal Register but have not yet taken effect by 60 days. Consistent with the directive of the January 20, 2001 White House memorandum, the purpose of this document is to give notice that the effective date of the January 17, 2001 final rule has been changed to April 16, 2001.

Accordingly, HUD's final rule published on January 17, 2001 at 66 FR 4578 (Docket No. FR-4612-F-02, FR Doc. 01-1206) will take effect on April 16, 2001.

Dated: January 24, 2001.
Mel Martinez,
Secretary.

[FR Doc. 01-2561 Filed 1-29-01; 8:45 am]

BILLING CODE 4210-32-P